ENVIRONMENTAL PROTECTION AGENCY

[FRL-7470-4]

Notice of a Final Determination on a Construction Permit for Minergy Detroit, Detroit, Wayne County, MI

AGENCY: Environmental Protection Agency (EPA).

ACTION: Notice of final action.

SUMMARY: This notice announces the final decision on a prevention of significant deterioration (PSD) Clean Air Act (CAA) permit issued by the Michigan Department of Environmental Quality (MDEQ) to Minergy Detroit LLC (Minergy) for a proposed facility in Detroit, Wayne County, Michigan. The MDEQ originally issued this permit on September 20, 2001, but two citizens petitioned EPA's Environmental Appeals Board's (EAB) to review it. On March 1, 2002 the EAB issued its decision dismissing the petitions for review. The state's permit became effective on March 25, 2002.

DATES: The effective date of this notice of final decision is March 20, 2003. See 40 CFR 124.19(a). Judicial review of the permit decision may be sought by filing a petition for review in the United States Court of Appeals for the Sixth Circuit by no later than May 19, 2003.

ADDRESSES: Documents relevant to the above action are available for public inspection during normal business hours at the following address: Environmental Protection Agency, Region 5, 77 West Jackson Boulevard (AR-18J), Chicago, Illinois 60604. To arrange inspection of these documents, call Laura L. David at (312) 886-0661.

FOR FURTHER INFORMATION CONTACT: Laura L. David, Environmental Protection Agency, Region 5, 77 W. Jackson Boulevard (AR-18J), Chicago, Illinois 60604, (312) 886-0661. The EAB decision is available at: http://www.epa.gov/eab/orders/minergy.pdf

SUPPLEMENTARY INFORMATION: On June 5, 2000, the MDEQ received an application from Minergy for a permit to install a glass aggregate facility that would utilize municipal wastewater solids (MWWS) in a cyclone furnance located at 7819 West Jefferson Avenue, Detroit, Michigan.

The proposed facility is a major source under federal air construction permit regulations, due to the potential significant emissions of nitrogen oxides (NOX), carbon monoxide (CO), sulfur dioxide (SO2), particulate matter (PM), particulate matter less than 10-microns in diameter (PM-10), volatile organic compounds (VOCs), and lead (Pb). The facility has the following major sources of emissions: a 550 MMBtu/hr glass furnace and a 249 MMBtu/hr natural gas fired boiler. The roadways and the MWWS silos are additional sources of PM.

Pursuant to 40 CFR 52.21(j), Minergy was required to conduct a Best Available Control Technology (BACT) analysis for pollutants regulated under the Act. Under Michigan regulations, it was also required to determine Best Available Control Technology for Toxics (T-BACT) for each toxic air contaminant (TACs) and hazardous air pollutant (HAPs).

The following technologies will be employed as air quality control equipment: fabric filters to control PM/PM-10 and trace metals; fuel controls by using a coal flux at minimum available sulfur concentration (0.32 percent) and a dry scrubbing process; a selective non-catalytic reduction system using urea/ammonia upon an optimization study to control NOX and ammonia emissions; ultra-low-NOX burners in the stand-by boiler, for controlling the NOX emissions; an overfire air system and good combustion practice to control CO emissions; high temperature retention, exceeding 1700 degrees Fahrenheit for greater than 2 seconds residence time and good combustion practices, to control VOCs and also for the State of Michigan's T-BACT for toxics such as acrolein, acrylonitrile, formaldehyde, dioxin, and furans; in addition to lime injection, carbon injection to reduce mercury emissions, dioxin and furans; and a vitrification process to minimize solid waste production, produce an inert product, and minimize metal emissions such as arsenic, beryllium and lead.

The combustion of natural gas, coal flux and municipal wastewater solids also has the potential to emit TACs and HAPs. Combustion techniques will be used to control the emission of TACs and HAPs and ensure the applicable screening levels are not exceeded. Each screening level is established to protect public health.

USEPA reviewed the permit application and the draft permit, and found their conditions in compliance with all federal regulations. State environmental officials reviewed Minergy's pollution estimates and evaluated the comments received during the public hearing held on June 28, 2001 and during the public comment period which ended on July 13, 2001. MDEQ approved the permit application request in September 20, 2001. As part of the approval, as a result of information submitted during the public participation process, a few new conditions were added to the permit issued.

MDEQ issues PSD permits under an EPA delegated program. Permits issued under a delegated program may be appealed to the EAB. The Minergy PSD permit was appealed by Saulius Simoliunas to the EAB on January 11, 2002 and by John Riehl of American Federation of State, County and Municipal Employees (AFSCME), Local 207, on January 14, 2002. Both petitioners questioned the adequacy of the permit's testing requirements related to emissions from the facility's cyclone furnace, and requested that special condition number 7 be modified to require the testing be done by an independent laboratory having proper certification, with the participation of citizens chosen by local non-governmental organizations.

On February 19, 2002, MDEQ filed a motion for Summary Disposition arguing that there was no regulatory or jurisdictional basis for imposing the conditions proposed by Petitioner, and requested that the Board decline review. On March 1, 2002, the EAB issued an order denying review of the permit.

The MDEQ issued the permit on September 20, 2001. The permit became effective on March 25, 2002.

Dated: March 10, 2003.
Bharat Mathur,
Acting Regional Administrator, Region 5.

[FR Doc. 03-6706 Filed 3-19-03; 8:45 am]

BILLING CODE 6560-50-P